DEPARTMENT OF TRANSPORTATION

Federal Railroad Administration

Environmental Impact Statement for New Orleans Rail Gateway (NORG), Jefferson and Orleans Parishes, LA

AGENCY: Federal Railroad Administration (FRA), DOT.

ACTION: Notice of Intent to prepare an Environmental Impact Statement (EIS).

SUMMARY: FRA is issuing this notice to advise the public that it will prepare an EIS with the Louisiana Department of Transportation and Development (LA DOTD) to evaluate environmental and related impacts of upgrading the New Orleans Rail Gateway (NORG) and infrastructure in Jefferson and Orleans Parishes, Louisiana (proposed action). FRA is also issuing this notice to solicit public and agency input into the development of the scope of the EIS and to advise the public that outreach activities conducted by LA DOTD and its representatives will be considered in preparation of the EIS. FRA is issuing this Notice to alert interested parties, to provide information on the nature of the proposed action, including the purpose and need for the proposed action, possible alternatives to be considered in the preparation of the EIS, potentially significant impacts to the natural and built environment of those alternatives, and to invite public participation in the EIS process.

DATES: Two public scoping meetings will be advertised locally and will be held from 6 p.m.-7:30 p.m. at the following dates and locations.

• February 7, 2012 at the Xavier University of Louisiana, University Center, 3rd Floor, Mary and William McCaffrey Ballroom B, 4980 Dixon Street, New Orleans, LA 70125

• February 8, 2012 at the Joseph S. Yenni Building, Council Chambers, 1221 Elmwood Park Boulevard, Jefferson, LA 70123

Information on the meeting locations is also available on the following Web site: http://www.dotd.la.gov/administration/public_info/projects/NORG/.

Persons requiring special assistance in order to participate in these public scoping meetings should contact Mr. Dean Goodell, Intermodal Transportation Manager, Louisiana Department of Transportation and Development, 1201 Capitol Access Road, Room S-515, Baton Rouge, LA 70802, or by telephone at (225) 379-3031, at least five (5) working days prior to the public meetings dates.

To ensure all significant issues are identified and considered, the public will be invited to comment on the proposed action. Comments on the scope of the EIS, including the proposed action's purpose and need, the alternatives to be considered, the impacts to be evaluated, and the methodologies to be used in the evaluations will be accepted at the public scoping meetings. Those attending the public scoping meetings will be asked to register at the meeting location and may comment in written form, or orally. Interested parties may also provide written comments on the scope of the EIS to Mr. Dean Goodell, Intermodal Transportation Manager, Louisiana Department of Transportation and Development, 1201 Capitol Access Road, Room S-515, Baton Rouge, LA 70802, telephone (225) 379-3031. Comments will be considered if postmarked within ten (10) calendar days following the meetings.

FOR FURTHER INFORMATION CONTACT: Ms. Catherine Dobbs, Environmental Protection Specialist, Federal Railroad Administration, 1200 New Jersey Avenue SE., Washington 20590, telephone: (202) 493-6347 or Mr. Dean Goodell, Intermodal Transportation Manager, Louisiana Department of Transportation and Development, 1201 Capitol Access Road, Room S-515, Baton Rouge, LA 70802, telephone (225) 379-3031. Information and documents regarding the environmental review process will be made available through the following Web site: http://www.dotd.la.gov/administration/public_info/projects/NORG/.

Environmental Review Process

The EIS will be prepared in accordance with the National Environmental Policy Act (NEPA), the Council on Environmental Quality (CEQ) regulations implementing NEPA and the FRA's Procedures for Considering Environmental Impacts as set forth in 64 FR 28545 dated May 26, 1999 (Environmental Procedures). The EIS will also address Section 106 of the National Historic Preservation Act, Section 4(f) of the U.S. Department of Transportation Act of 1966 (49 U.S.C. 303) and other applicable Federal and state laws and regulations.

The study will result in a NEPA document that will address broad overall issues of concern, including but not limited to:

• Describing the purpose and need for the proposed action.

• Describing the environment likely to be affected by the proposed action.

• Developing evaluation criteria to identify alternatives that meet the purpose and need of the proposed action and those that do not.

• Identifying the range of reasonable alternatives that satisfy the purpose and need for the proposed action.

• Developing the no-build alternative to serve as a baseline for comparison.

• Describing and evaluating the potential environmental impacts and mitigation associated with the proposed alternatives.

SUPPLEMENTARY INFORMATION: The FRA and the LA DOTD will prepare the EIS for the New Orleans Rail Gateway Program and infrastructure in Jefferson and Orleans Parishes, Louisiana in coordination with the New Orleans Regional Planning Commission (NORPC) and the railroads operating in the New Orleans metropolitan area. The Class I railroads, which are members of the Association of American Railroads (AAR), include Burlington Northern Santa Fe Railway (BNSF), Canadian National (CN), CSX, Kansas City Southern Railway (KCS), Norfolk Southern Railroad (NS), and Union Pacific (UP) railroads, the terminal switching railroad, the New Orleans Public Belt Railroad (NOPB), and the National Railroad Passenger Corporation (Amtrak). LA DOTD and these railroads are advancing the proposed action as a public-private partnership (P3) among these entities.

I. New Orleans Rail Gateway (NORG)

The NORG is a rail corridor within Jefferson and Orleans Parishes, beginning on the west bank of the Mississippi River near the St. Charles/Jefferson Parish line. From the Parish line it proceeds easterly along tracks of the UP and BNSF through the Avondale Yard at West Bridge Junction (WBJ) and crosses the Mississippi River on the Huey P. Long Bridge (HPLB), which is owned and operated by the New Orleans Public Belt Railroad. At the base of the HPLB, it traverses East Bridge Junction (EBJ) to the Back Belt tracks owned and operated by the NS. The NORG proceeds along the Back Belt, entering the City of New Orleans at the 17th Street Canal. It proceeds through the City of New Orleans along the Back Belt, and connects with CSX trackage at Elysian Fields Avenue, and continues on CSX trackage crossing the Inner Harbor Navigation Canal on the Almonaster Bridge, traversing the CSX Gentilly Yard and proceeding easterly through New Orleans East to its terminus near Industrial Parkway.

II. Study Area

For the purpose of the EIS, a Study Area has been established that includes the above described NORG corridor and the other existing rail corridors within the New Orleans metropolitan area, and is of sufficient geographic extent to allow for a variety of alternatives to be considered and potential impacts to the human, natural, and cultural environments to be assessed. The Study Area encompasses approximately 110 square miles and is roughly bounded on the west by the Jefferson/St. Charles Parish line; on the north by I-10 within Jefferson Parish then turns north along the Jefferson/Orleans Parish line, eastward along Filmore Avenue, north along Franklin Avenue, northeast near Leon C Simon Drive and Lakeshore Drive, southeast along Martin Drive, southwest along Wales Street, southward along Press Drive and then continuing eastward along Dwyer Road; on the east along Maxent Canal near Bayou Sauvage; and on the south following the Intracoastal waterway and Mississippi River, then crossing the Mississippi River at Louisiana Street following US 90 to where it meets the Jefferson/St. Charles Parish line.

III. Purpose and Need

The NORG serves six Class I Railroads and three Amtrak passenger rail routes and the NOPB railroad links the Port of New Orleans, the eighth largest tonnage port in the United States, to the national rail network.

The Gateway is a critical link in the national freight rail system. It is one of five major rail interchange points between the eastern and western Class I Railroads and also has one of the four major Mississippi River rail bridges. It is one of only three national rail gateways that are both rail interchange hubs and major Mississippi River rail crossings.

Throughout the NORG, trains must observe a maximum speed of 20 mph, necessitated, in part, by antiquated control systems and switches. Flood gates at various locations are closed up to 24 hours prior to and following storm events, such as Hurricane Katrina in 2005, limiting the railroads' ability to transport evacuees and emergency supplies. The NORG includes the existing Almonaster Avenue Bridge across the Inner Harbor Navigation Canal (IHNC), an 80 year old structure that is subject to frequent breakdowns. The electrical and mechanical components of the bridge are obsolete and are the cause of continual maintenance problems. In the closed to navigation position, the bridge has virtually no vertical clearance for marine traffic.

Due to its existing design and limited capacity, the NORG cannot efficiently handle current traffic volumes, routinely resulting in delays to both rail and road traffic.

The 29-mile NORG handles approximately 35 freight trains per day with a combined delay of 29.7 hours per day for train meets, including deceleration and acceleration. Each of the 20 at-grade crossings along the NORG handles over 20 trains per day. Several of these crossings are moderate to high volume arterials, carrying between 10,000 and 20,000 vehicles daily. Average daily delays to vehicles and trucks at these crossings are 112.4 hours and 12.1 hours, respectively.

The NORG is not able to accommodate anticipated future freight demand. The U.S. Department of Transportation forecasts that import and export freight tonnage could double by 2020 and domestic freight tonnage could increase by approximately 60 percent. Growth of shipping port traffic will increase rail traffic in the NORG. This results in negative impacts to the community and decreased regional economic competitiveness.

The purpose of the proposed action is to:

• Correct physical and operational deficiencies to improve rail traffic flow to better serve existing and future users of the Gateway,

• Improve the reliability of marine traffic passing through the Inner Harbor Navigation Canal under the Almonaster Avenue Bridge,

• Improve the safety of rail and vehicle operations in the affected area,

• Reduce vehicle congestion at street crossings,

• Improve emergency evacuation conditions, and

• Improve overall environmental quality.

IV. Previous Studies

Over the past 35 years, the FRA, the LA DOTD, the New Orleans Community and the railroads have examined rail improvements within the Gateway that would reduce delays and improve rail service to rail customers in the greater New Orleans region. Most recently, the LA DOTD, NORPC, and the AAR, representing Amtrak and the six Class I freight railroads serving New Orleans, studied improvements to the New Orleans Rail Gateway that would:

• Improve rail service,

• Reduce rail impacts on the adjacent communities, and

• Further the economic recovery and development of the metropolitan area.

Studies in 2002, 2004, and 2007 evaluated potential physical and operational improvements to eliminate the worst chokepoints and improve freight movement.

The 2007 NORG Infrastructure Feasibility Analysis (2007 Study) evaluated possible improvements to the Back Belt, Front Belt along the Mississippi River, and the Middle Belt along the Earhart Expressway/I-10 Corridor. Improvements to the Front Belt were determined to be unfeasible due to the adjacent development and numerous at-grade crossings. Back Belt improvements included grade separating numerous highway-railroad crossings to improve highway traffic flow and would provide limited additional rail capacity with minimal track construction. Middle Belt improvements included creating a new route between East Bridge Junction and East City Junction by linking existing, but lightly used rail lines through Jefferson and Orleans Parishes. Commonly known as the “Carrolton Curve”, this route was first identified in 1955 and would reroute trains to the Earhart Expressway/I-10 corridor to provide additional rail capacity through a more industrial part of the City of New Orleans. While the Back and Middle Belt improvements both improved public safety by eliminating or separating most highway-rail grade crossings, the Middle Belt improvements appeared to offer the best benefits for both the public and the railroads, and would improve emergency evacuation procedures by eliminating flood-prone highway underpasses on I-10 and Airline Highway.

V. Alternatives To Be Considered

Preliminary alternatives identified include a No-Build Alternative and various Build Alternatives. The No-Build Alternative is defined to serve as the baseline for comparison of all alternatives. The No-Build Alternative represents the transportation system (highway and rail) as it exists, and as it would exist after completion of programs or projects currently funded or being implemented. The No-Build Alternative would draw upon the following sources on information:

• State Transportation Improvement Program (STIP)

• New Orleans Urbanized Area Transportation Improvement Program (for all travel modes)

• Freight and passenger rail plans.

The Build Alternatives would include a program of rail and roadway infrastructure and operations improvements (program of projects) that are cost-feasible and satisfy the stated purpose and need. Improvements to be considered could include, but not be limited to, closing or grade-separating crossings, reconfiguring or adding trackage, upgrading structures (including culverts and over/underpass structures), improving signal systems, and incorporating positive train control (PTC) and/or centralized train control (CTC). The Build Alternatives would include the alternatives evaluated in the 2007 Study and additional alternatives identified during scoping and the alternatives development process.

VI. Possible Effects

The FRA and LA DOTD will evaluate direct, indirect and cumulative changes to the social, economic, and physical environment—including land use and socioeconomic conditions, ecology, water resources, historic and archaeological resources, visual character and aesthetics, contaminated and hazardous materials, transportation, air quality, noise and vibration. Environmental justice will be examined for all alternatives, and Limited English Proficiency and Title VI requirements documented. The evaluation will take into account both beneficial and adverse affects and identify measures to avoid, minimize, and mitigate adverse community and environmental impacts. The analysis will be undertaken consistent with the National Environmental Policy Act, Council on Environmental Quality regulations defined previously, Section 106 of the National Historic Preservation Act, the Endangered Species Act, Clean Air Act, Clean Water Act, FRA's Environmental Procedures, LA DOTD guidance, and Section 4(f) of the Department of Transportation Act of 1966, along with other applicable Federal and state regulations.

VII. Scoping Process

To ensure that the full range of issues related to this proposal is addressed and all significant issues identified, comments and suggestions are invited from all interested parties. Comments or questions concerning this proposed action and the EIS should be directed to the LA DOTD at the address above. Letters describing the proposed action and soliciting comments have been sent to the appropriate Federal, State and local agencies, Native American tribes and to private organizations who have previously expressed or who are known to have an interest in this proposal. Federal agencies with jurisdiction by law or special expertise with respect to potential environmental issues will be requested to act as a Cooperating Agency in accordance with 40 CFR 1501.6.

LA DOTD will lead the outreach activities, beginning with the scoping meetings identified under DATES above. Public involvement initiatives, includ- ing public meetings, newsletters, and outreach to engage low-, minority-, and other environmentally-disadvantaged groups will be held throughout the course of this study. Opportunities for public participation will be announced through mailings, notices, advertisements, press releases and a project Web site: http://www.dotd.la.gov/administration/public_info/projects/NORG/.

Two public hearings on the Draft EIS will be held following its issuance. Public notice will be given, in local newspapers, of the time and place of the meetings and hearings. The Draft EIS will be available for public and agency review prior to the public hearings.

Issued in Washington, DC, on January 10, 2012.
Paul Nissenbaum,
Associate Administrator for Railroad Policy and Development, Federal Railroad Administration.

[FR Doc. 2012-603 Filed 1-12-12; 8:45 am]

BILLING CODE 4910-06-P